ENVIRONMENTAL PROTECTION AGENCY

[FRL-9777-4]

Adequacy Status of the Motor Vehicle Emission Budgets for Metropolitan Washington DC Area (DC-MD-VA) 1997 8-Hour Ozone Non-Attainment Area's 2009 Attainment Plan and 2010 Contingency Plan

AGENCY: Environmental Protection Agency (EPA).

ACTION: Notice of adequacy.

SUMMARY: In this notice, EPA is notifying the public that the Motor Vehicle Emissions Budgets (MVEBs) for volatile organic compounds (VOCs) and nitrogen oxides (NOX) in the 2009 Attainment Plan and 2010 Contingency Plan submitted as a State Implementation Plan (SIP) revision on June 4, 2007 by the Maryland Department of the Environment (MDE) and June 12, 2007 by both the Virginia Department of Environmental Quality (VADEQ) and the District of Columbia Department of Health (DCDOH) are adequate for transportation conformity purposes. As a result of EPA's finding, the Washington DC-MD-VA Nonattainment Area for the 1997 8-Hour Ozone National Ambient Air Quality Standard (the Metropolitan Washington Area) must use the MVEBs from the June 4, 2007 and June 12, 2007 Attainment Plan and Contingency Plan for future conformity determinations for the 1997 8-hour ozone standard.

DATES: The adequacy finding for MVEBs for VOCs and NOX is effective February 22, 2013.

FOR FURTHER INFORMATION CONTACT: Martin Kotsch, U.S. Environmental Protection Agency, Region III, 1650 Arch Street, Philadelphia, Pennsylvania 19103 at (215) 814-3335 or by email at: kotsch.martin@epa.gov. The finding is available at EPA's conformity Web site: http://www.epa.gov/otaq/stateresources/transconf/currsips.htm.

SUPPLEMENTARY INFORMATION: The word “budgets” refers to the motor vehicle emission budgets for VOCs and NOX. The word “SIP” in this document refers to the Attainment Plan and Contingency Plan for the Metropolitan Washington Area, 1997 8-Hour Ozone Nonattainment Area submitted to EPA as a SIP revision on June 4, 2007 by MDE and June 12, 2007 by VADEQ and DCDOH.

Today's notice is simply an announcement of a finding that EPA has already made. In this notice, EPA is notifying the public that we have found that the MVEBs in the 2009 Attainment Plan and 2010 Contingency Plan, submitted on June 4, 2007 by MDE and June 12, 2007 by VADEQ and DCDOH, are adequate for transportation conformity purposes. As a result of EPA's finding, the Metropolitan Washington Area must use the MVEBs from the 2009 Attainment Plan and 2010 Contingency Plan for future conformity determinations for the 1997 8-hour ozone standard. This finding has also been announced on EPA's conformity Web site: http://www.epa.gov/otaq/stateresources/transconf/pastsips.htm. The adequate MVEBs are shown in the following table:

Metropolitan Washington Area MVEBs 2009 Attainment Plan and 2010 Contingency Plan
Milestone year | VOCs (tons per day) | NOX (tons per day)
2009 | 66.5 | 146.1
2010 | N/A | 144.3

Transportation conformity is required by section 176(c) of the Clean Air Act, as amended in 1990. EPA's conformity rule requires that transportation plans, programs and projects conform to state air quality implementation plans and establishes the criteria and procedures for determining whether or not they do. Conformity to a SIP means that transportation activities will not produce new air quality violations, worsen existing violations, or delay timely attainment of the national ambient air quality standards. The criteria by which EPA determines whether a SIP's MVEBs are adequate for conformity purposes are outlined in 40 CFR 93.118(e)(4). EPA has described the process for determining the adequacy of submitted SIP budgets in 40 CFR 93.118(f) and has followed this rule in making its adequacy determination.

Dated: January 25, 2013.
W.C. Early,
Acting Regional Administrator, Region III.

[FR Doc. 2013-02808 Filed 2-6-13; 8:45 am]

BILLING CODE 6560-50-P